FEDERAL DEPOSIT INSURANCE CORPORATION

FDIC Advisory Committee of State Regulators; Notice of Meeting

AGENCY: Federal Deposit Insurance Corporation (FDIC).

ACTION: Notice of open meeting.

SUMMARY: In accordance with the Federal Advisory Committee Act, notice is hereby given of a meeting of the FDIC Advisory Committee of State Regulators. The Advisory Committee will provide advice and recommendations on a broad range of policy issues regarding the regulation of state-chartered financial institutions throughout the United States, including its territories. The meeting is open to the public. Out of an abundance of caution related to current and potential coronavirus developments, the public's means to observe this meeting of the Advisory Committee of State Regulators will be via a Webcast live on the internet. In addition, the meeting will be recorded and subsequently made available on-demand approximately two weeks after the event. To view the live event, visit http://fdic.windrosemedia.com. To view the recording, visit http://fdic.windrosemedia.com/index.php?category=Advisory+Committee+State+Regulators. If you require a reasonable accommodation to participate, please contact DisabilityProgram@fdic.gov or call 703-562-2096 to make necessary arrangements.

DATES: Wednesday, October 14, 2020, from 1:00 p.m. to 5:15 p.m.

FOR FURTHER INFORMATION CONTACT: Requests for further information concerning the meeting may be directed to Mr. Robert E. Feldman, Committee Management Officer of the FDIC, at (202) 898-7043.

SUPPLEMENTARY INFORMATION:

Agenda: The agenda will include a discussion of a variety of current and emerging issues that have potential implications regarding the regulation and supervision of state-chartered financial institutions. The agenda is subject to change. Any changes to the agenda will be announced at the beginning of the meeting.

Type of Meeting: This meeting of the Advisory Committee of State Regulators will be Webcast live via the internet http://fdic.windrosemedia.com. For optimal viewing, a high-speed internet connection is recommended.

Federal Deposit Insurance Corporation.
Dated at Washington, DC, on September 24, 2020.
Robert E. Feldman,
Executive Secretary.

[FR Doc. 2020-21490 Filed 9-28-20; 8:45 am]

BILLING CODE 6714-01-P